DEPARTMENT OF ENERGY

Environmental Management Site-Specific Advisory Board, Northern New Mexico

AGENCY: Department of Energy.

ACTION: Notice of Open Meeting: Correction.

SUMMARY: On December 20, 2011, the Department of Energy (DOE) published a notice of open meeting announcing a meeting on January 25, 2012 of the Environmental Management Site-Specific Advisory Board, Northern New Mexico (76 FR 78909). This document makes a correction to that notice.

FOR FURTHER INFORMATION CONTACT: Menice Santistevan, Northern New Mexico Citizens' Advisory Board (NNMCAB), 1660 Old Pecos Trail, Suite B, Santa Fe, NM 87505. Phone (505) 995-0393; Fax (505) 989-1752 or Email: msantistevan@doeal.gov.

Corrections

In the Federal Register of December 20, 2011, in FR Doc. 2011-32535, on page 78909, please make the following correction:

In that notice under ADDRESSES, first column, third paragraph, the meeting address has been changed. The original address was NNMCAB Offices, 96 Cities of Gold Road, Suite 3, Pojoaque, New Mexico 87506. The new address is Cities of Gold Conference Center, 10-A Cities of Gold Road, Santa Fe, NM 87506. The reason for this change is the renovations at the original location will not be completed by the meeting date.

Issued at Washington, DC on January 10, 2012.
LaTanya R. Butler,
Acting Deputy Committee Management Officer.

[FR Doc. 2012-681 Filed 1-13-12; 8:45 am]

BILLING CODE 6450-01-P